Title 3—

The President

Proclamation 9251 of April 6, 2015

National Public Health Week, 2015

By the President of the United States of America

A Proclamation

Last year, as Ebola spread in West Africa—overwhelming public health systems and threatening to cross more borders—American women and men responded with extraordinary courage and dedication, traveling to the front lines of the outbreak and leading preparedness efforts here at home. Driven by their sense of duty and a commitment to serving a cause greater than themselves, public health professionals rose to the challenge at home and abroad and turned the tide of an epidemic. They demonstrated what is possible when America leads and when we make policy based on sound science and good judgment. Their efforts represent what is best about our national character and embody the most basic human instinct: to leave our children a safer, healthier, more prosperous world.

As a Nation, we must continue to support public health with the same sense of purpose and fierce determination. This week, we join together to declare our intent to rise to the challenges of a changing world and meet our moral obligations to protect the health of our country and the well-being of the next generation.

America's public health is deeply tied to the health of our environment. As our planet becomes more interconnected and our climate continues to warm, we face new threats to our safety and well-being. In the past three decades, the percentage of Americans with asthma has more than doubled, and climate change is putting these individuals and many other vulnerable populations at greater risk of landing in the hospital. Rising temperatures can lead to more smog, longer allergy seasons, and an increased incidence of extreme-weather-related injuries and illnesses.

My Administration is dedicated to combating the health impacts of climate change. As part of my Climate Action Plan, we have proposed the first-ever carbon pollution limits for existing power plants—standards that would help Americans live longer, healthier lives. And as we continue to ensure the resilience of our health care system, we are working to prepare our health care facilities to handle the effects of a changing planet. Climate change is no longer a distant threat. Its effects are felt today, and its costs can be measured in human lives. Every person, every community, and every nation has a duty to protect the health of all our children and grandchildren, and my Administration is committed to leading this effort.

The United States has faced challenges before, and each time we have boldly taken responsibility for our destiny and reached for the future we knew was possible. Today, vaccines prevent diseases that once devastated nations—and we should do more to spread the facts about their benefits. After 5 years of the Affordable Care Act, more than 16 million uninsured Americans have gained health insurance coverage, and this achievement has cut the ranks of the uninsured by nearly one-third.

We are shifting the focus of our country's health care system from sickness and disease to wellness and prevention. First Lady Michelle Obama's Let's Move! initiative is working to make it easier for parents and children to make healthy choices about the food they eat and the exercise they get every day. With partners around the world, the United States launched the Global Health Security Agenda to help prevent, detect, and respond to outbreaks before they become epidemics. And my Administration is taking aggressive, coordinated actions to slow the emergence and prevent the spread of antibiotic-resistant bacteria.

Public health is the foundation for a brighter tomorrow. When we invest in the safety and well-being of all Americans, we enrich our communities, bolster our economy, and strengthen our Nation. During National Public Health Week, we recognize public health professionals and all who care for the welfare of others, and we recommit to doing everything within our power to build a world where every child can enjoy the limitless possibilities of a healthy life.

NOW, THEREFORE, I, BARACK OBAMA, President of the United States of America, by virtue of the authority vested in me by the Constitution and the laws of the United States, do hereby proclaim April 6 through April 12, 2015, as National Public Health Week. I call on all citizens, government agencies, private businesses, non-profit organizations, and other groups to join in activities and take action to improve the health of our Nation.

IN WITNESS WHEREOF, I have hereunto set my hand this sixth day of April, in the year of our Lord two thousand fifteen, and of the Independence of the United States of America the two hundred and thirty-ninth.

[FR Doc. 2015-08357

Filed 4-8-15; 11:15 am]

Billing code 3295-F5